NATIONAL COUNTERINTELLIGENCE CENTER

Privacy Act of 1974; Amendments to Statement of General Routine Uses

AGENCY: National Counterintelligence Center.

ACTION: Notice of amendment to Statement of General Routine Uses for systems of records subject to the Privacy Act of 1974, as amended (5 U.S.C. 552a).

SUMMARY: The National Counterintelligence Center is providing notice of an amendment to the Statement of General Routine Uses for systems of records in its current inventory of systems of records subject to the Privacy Act of 1974, as amended (5 U.S.C. 552a).

EFFECTIVE DATE: This action is effective February 22, 2000, unless comments are received which would result in a contrary determination.

FOR FURTHER INFORMATION CONTACT: Information and Privacy Coordinator, Executive Secretariat, National Counterintelligence Center, 3W01 NHB, Washington, DC 20505.

SUPPLEMENTARY INFORMATION: The National Counterintelligence Center (NACIC) hereby amends Item 10 of its National of General Routine Uses, entitled “Routine Use—Counterintelligence Purposes,” to delete the words “outside the U.S. Government.” The purpose of this notice is to inform the public that records from systems of records maintained by NACIC may be disclosed for counterintelligence purposes both within and outside the U.S. Government. Other routine uses set forth in NACIC's Statement of General Routine Uses are unchanged. Each of the routine uses set forth in NACIC's Statement of General Routine Uses applies to, and is incorporated by reference into, each system of records maintained by NACIC. NACIC's systems of records are fully described in Federal Register Volume 62, Number 191 (62 FR 51698, Oct 2, 1997) and are unchanged by the amendment described in this notice.

For the convenience of the public, NACIC's amended Statement of General Routine Uses is published herewith in its entirety.

Dated: January 10, 2000.
Michael Waguespack,
Director, National Counterintelligence Center.

Statement of General Routine Uses

The following routine uses apply to, and are incorporated by reference into each system of records maintained by NACIC. It should be noted that, before the individual record system notices begin, the blanket routine uses of the records are published below only once in the interest of simplicity, economy and to avoid redundancy.

1. Routine Use—Law Enforcement: In the event that a system of records maintained by NACIC to carry out its functions indicates a violation or potential violation of law, whether civil, criminal or regulatory in nature, and whether arising by general statute or by regulation, rule or order issued pursuant thereto, the relevant records in the system of records may be referred, as a routine use, to the appropriate agency whether Federal, state, local or foreign, charged with the responsibility of investigating of prosecuting such violation or charged with enforcing or implementing the statute, rule, regulation or order issued pursuant thereto.

2. Routine Use—Disclosure When Requesting Information: A record from a system of records maintained by this component may be disclosed as a routine use to a Federal, state, or local maintaining civil, criminal, or other relevant enforcement information or other pertinent information, if necessary, to obtain information relevant to a component decision concerning the hiring or retention of an employee, the issuance of a security clearance, the letting of a contract, or the issuance of a license, grant or other benefit.

3. Routine Use—Disclosure of Requested Information: A record from a system of records maintained by this component may be disclosed to a Federal agency, in response to its request, in connection with the hiring or retention of an employee, the issuance of a security clearance, the reporting of an investigation of an employee, the letting of a contract, or the issuance of a license, grant or other benefit by the requesting agency, to the extent that the information is relevant and necessary to the requesting agency's decision on the matter.

4. Routine Use—Congressional: Inquiries from a system of records maintained by this component may be made to a Congressional office from the record of an individual in response to an inquiry from the Congressional office made at the request of that individual.

5. Routine Use—Disclosures Required by International Agreement: A record from a system of records maintained by this component may be disclosed to foreign law enforcement, security, investigatory, or administrative authorities in order to comply with requirements imposed by, or to claim rights conferred in, international agreements and arrangements including those regulating the stationing and status in foreign countries of Department of Defense military and civilian personnel.

6. Routine Use—Disclosure to the Department of Justice for Litigation: A record from a system of records maintained by this component may be disclosed as a routine use to any component of the Department of Justice for the purpose of representing any officer, employee or member of this component in pending or potential litigation to which the record is pertinent.

7. Routine Use—Disclosure of Information to the Information Security Oversight Office (ISOO): A record from a system of records maintained by this component may be disclosed as a routine use to the Information Security Oversight Office (ISOO) or any other executive branch entity authorized to conduct inspections or develop security classification policy for the purpose of records management inspections conducted under authority of 44 U.S.C. 2904 and 2906.

8. Routine Use—Disclosure of Information to the National Archives and Records Administration (NARA): A record from a system of records maintained by this component may be disclosed as a routine use to the National Achieves and Records Administration (NARA) for the purpose of records management inspections conducted under authority of 44 U.S.C. 2904 and 2906.

9. Routine Use—Disclosure to the Merit Systems Protection Board: A record from a system of records maintained by this component may be disclosed as a routine use to the Merit Systems Protection Board, including the Office of the Special Counsel for the purpose of litigation, including administrative proceedings, appeals special studies of the civil service and other merit systems, review of OPM or component rules and regulations, investigation of alleged or possible prohibited personnel practices; including administrative proceedings involving any individual subject of investigation, and such other functions, promulgated in 5 U.S.C. 1205 and 1206, or as may be authorized by law.

10. Routine Use—Counterintelligence Purposes: A record from a system of records maintained by this component may be disclosed as a routine use for the purpose of counterintelligence activities authorized by U.S. law or Executive Order or for the purpose of enforcing laws which protect the national security of the United States.

[FR Doc. 00-1360 Filed 1-19-00; 8:45 am]

BILLING CODE 6310-02-M